DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 28811-28813, dated April 24, 2010) is amended to reflect the establishment of the Office of the Associate Director for Program, Office of the Director, Centers for Disease Control and Prevention.

Section C-B, Organization and Functions, is hereby amended as follows:

Delete in their entirety the titles and function statements for the Office of Strategy and Innovation (CAM) and the Office of Chief of Public Health Practice (CAR) and insert the following:

Office of the Associate Director for Program (CAF). The mission of the Office of the Associate Director for Program is to increase the impact and effectiveness of public health programs and eliminate health disparities through the application of science to practice, the promotion of policy interventions, and the use of performance and evaluation data for continuous improvement.

Office of the Director (CAF1). (1) Provides agency-wide direction, standards, and technical assistance for program planning, performance and accountability, and program evaluation and effectiveness; (2) serves as advisor to the CDC Director, HHS and the Administration on key programmatic activities; (3) provides intensive analytic and advisory assistance to enable effective redesign of select program priorities; (4) represents CDC vision, mission, and program strategy internally and externally; (5) develops and promotes new initiatives based on emerging issues, science, and policy; (6) supports the harmonization and integration of performance measurement, accountability, and program evaluation; (7) provides agency-wide direction, standards, and technical assistance to support and guide program evaluation, monitoring, and performance measurement by programs; (8) supports the harmonization and integration of performance measurement, accountability, and program evaluation; (9) guides the collection and analysis of performance and accountability data, including Healthy People 2020, the Program Assessment Rating Tool, the Government Performance and Results Act, and the American Recovery and Reinvestment Act; (10) conducts quarterly program reviews; (11) supports assessment of program effectiveness to guide further science, policy, and programmatic efforts; (12) provides financial support to conduct both innovative program evaluations and innovative methods for evaluating programs; (13) manages evaluation contracts; (14) guides performance-based strategic planning; (15) drives short-term and long-term program planning; (16) establishes routine, continuous improvement based on effective program evaluation, and performance measurement; (17) supports implementation of policy as intervention; (18) supports evidence-driven program redesign; (19) coordinates action planning for high impact initiatives; and (20) develops, promotes and coordinates new initiatives.

Office of Women's Health (CAF13). The mission of the Office of Women's Health (OWH) is to provide leadership, advocacy, and support for the agency's research, policy, and prevention initiatives to promote and improve the health of women and girls. As the agency's leader for women's health issues, OWH: (1) Advises the CDC Director and leads the Women's Health Workgroup in the advancement of research, policies, and programs related to the health of women and girls; (2) provides leadership, assistance, and consultation to the agency's centers, offices, and programs to address women's health issues; (3) advances sound scientific knowledge, promotes the role of prevention, and works to improve the communication and understanding of women's health priorities for public health action by CDC and a diverse group of state and local programs, providers, consumers, and organizations; (4) creates, publishes, and disseminates communicative products and materials that highlight CDC priorities, opportunities, and strategies to improve health; (5) establishes and fosters relationships with others (i.e., government agencies, professional groups, academic institutions, organizations and small businesses) to increase awareness and strengthen implementation of women's health programs and practices; (6) represents the agency and serves as a liaison on women's health issues within and outside HHS; and (7) coordinates and manages efforts through dialogues, meetings, and other activities to increase awareness of public health and women's health issues.

Dated June 6, 2010.
William P. Nichols,
Chief Operating Officer, Centers for Disease Control and Prevention.

[FR Doc. 2010-14424 Filed 6-16-10; 8:45 am]

BILLING CODE 4160-18-M